DEPARTMENT OF COMMERCE

International Trade Administration

[A-570-848]

Freshwater Crawfish Tail Meat From the People's Republic of China: Notice of Preliminary Results of Antidumping Duty Administrative Review and Preliminary Partial Rescission of Antidumping Duty Administrative Review

AGENCY: Import Administration, International Trade Administration, Department of Commerce.

SUMMARY: The Department of Commerce (the Department) is conducting an administrative review of the antidumping duty order on freshwater crawfish tail meat from the People's Republic of China (PRC) in response to requests from the Crawfish Processors Alliance (petitioner) and the Louisiana Department of Agriculture & Forestry and Bob Odom, Commissioner; from respondents Fujian Pelagic Fishery Group Co., Qingdao Zhengri Seafood Company, Ltd., and Yancheng Yaou Seafood Co., Ltd.; and from importers Bo Asia, Inc. and Hontex Enterprises, Inc. (d/b/a Louisiana Packing Company). The period of review is from September 1, 1999 through August 31, 2000.

We preliminarily determine that sales have been made below normal value (NV). The preliminary results are listed below in the section titled “Preliminary Results of Review.” If these preliminary results are adopted in our final results, we will instruct the U.S. Customs Service to assess antidumping duties based on the difference between the export price (EP) or constructed export price (CEP), as applicable, and NV. Interested parties are invited to comment on these preliminary results. (See the “Preliminary Results of Review” section of this notice.)

EFFECTIVE DATE: October 12, 2001.

FOR FURTHER INFORMATION CONTACT: Doug Campau or Maureen Flannery, Import Administration, International Trade Administration, U.S. Department of Commerce, 14th Street and Constitution Avenue, NW., Washington, DC 20230; telephone: (202) 482-1395 or (202) 482-3020, respectively.

The Applicable Statute

Unless otherwise indicated, all citations to the Tariff Act of 1930, as amended (the Act) are to the provisions effective January 1, 1995, the effective date of the amendments made to the Act by the Uruguay Round Agreements Act (URAA). In addition, unless otherwise indicated, all citations to the Department's regulations are to 19 CFR part 351 (2000).

Background

On September 15, 1997, the Department published in the Federal Register an antidumping duty order on freshwater crawfish tail meat from the PRC. See Notice of Amendment to Final Determination of Sales at Less Than Fair Value and Antidumping Duty Order: Freshwater Crawfish Tail Meat From the People's Republic of China, 62 FR 48218 (September 15, 1997). On September 26, 2000, in accordance with 19 CFR 351.213(b)(3), the Department received a request from importer Bo Asia, Inc. to conduct an administrative review of Huaiyin Foreign Trade Corporation, Huaiyin Foreign Trade Corporation #30 (Huaiyin 30), and Yan Cheng Foreign Trade (YFT).

On September 29, 2000, in accordance with 19 CFR 351.213(b)(1), the Department received a request from the petitioner to conduct an administrative review of Anhui Chaohu Daxin Meat Poultry Co, Ltd.; Anhui Cereals, Oils & Foodstuffs; Anhui Provincial Aquatic Co.; Baoluu Waterstuff Co., Ltd.; Baoying Freezing Plant; Baoying County Freezing Plant; Beijing Farenco; Ever Concord; Feidong Freezing Plant; Fubao Aquatic Foodstuff Co., Ltd;. Fujian Hualong Aquatic Trade Development Co. Lianjian Seafood Processing Plant; Fujian Pelagic Fishery Group Co. (Fujian Pelagic); Fujian Hualong Aquatic Trade Development; Funing County Frozen Food; Guangzhou Xinye Plastic Products, Hengji Trading Co., Ltd.; Hexing Foodstuff Co., Ltd.; Hongze County Laoshan Danxian Freezing Factory; Hongze Lake Green Food Co.,

Ltd.; Hongze County Aquatic Freezing Factory; Hua Yin; Huai Yin; Huaiyin County Freezing Factory; Huaiyin Foreign Economic Relations and Trade Committee; Huaiyin Foreign Trade Corp. Shunda Branch; Huaiyin Foreign Trade Corporation; Huaiyin Foreign Trading; Huaiyin Foreign Trade Corporation (3); Huaiyin Foreign Trade Corporation (5) (Huaiyin 5); Huaiyin Foreign Trade Corporation (30) (Huaiyin 30); Huaiyin Foreign Trade; Huaiyin Luky Trade Corp.; Huaiyin Shunda Economic and Technology Trading Co.; JAS Forwarding; Jiangsu Zhenfeng Group Foodstuff; Jiangsu Zhenfeng Group; Jiangsu Lukang Foodstuffs; Jin

Hu Foreign Trading; Jinghu Aquatic Foodstuff Processing Plant; Jinpeng Agriculture and By-Product Development Co.; Laoshan Brother Freezing Plant; Mr. Edward Lee; Lianyungang Haiwang Aquatic Products Co., Ltd.; Liaoning Limeng Exports & Imports; Mr. Lin Zhong Nan; Mr. Ma Guo Zhong; Nantong Shengfa Frozen Food Co., Ltd. (Nantong Shengfa); Nantong Delu Aquatic Food Co., Ltd.; Neptune International; Ningbo Nanlian Frozen Foods Co., Ltd. (Ningbo Nanlian); Pacific Coast Fisheries Corp.; Panwin Logistics; Qidong Baoluu Aquatic Food Co., Ltd.; Qingdao Rirong Foodstuff Co., Ltd. aka Qingdao Rirong Foodstuffs (Qingdao Rirong); Qingdao Shun Hang Forwarding; Qingdao Zhengri Seafood Co., Ltd., aka Qingdao Zhengri Seafoods (Qingdao Zhengri); Qingshan Foodstuff Co., Ltd.; Rich Shipping; Seatrade International, aka

Seatrade Enter.; Shanghai Guangxum Trading; Shanghai Zhongjian International Trading; Shantou SEZ Yangfeng Marine Products Co. (Yangfeng Marine); Suqian Foreign Trade Corp., aka Suqian Foreign Trading (Suqian FTC); Suyang Shuangyu Foodstuff Co., Ltd.; Toyo Warehouse, aka TKK Toyo; Mr. Wei Wei, aka Philip Wei; Mr. Wei Zhang; Weishan Fukang Foodstuffs Co., Ltd.; Weishan Jinmuan Foodstuff; Weishan Hongfa Lake Foodstuff Co., Ltd., aka Weishan Fongfa Lake Foodstuff; Y & Z International, aka Y & Z International Trading; Yancheng Baolong Biochemical Products, Co., Ltd.; Yancheng Foreign Trade Corp., aka Yancheng Foreign Trading, aka Yang Chen Foreign Trading; Yancheng Fubao Aquatic Food Co., Ltd.; Yancheng Haibao Foods; Yancheng Haiteng Aquatic Products & Foods Co., Ltd. (Yancheng Haiteng); Yancheng Yao Seafoods (Yancheng Seafood); Mr. Yang Yi Xiang; Yangzhou Foreign Trading; Yangzhou Lakebest Foods Co., Ltd. (Yangzhou Lakebest); Yiaxian No. 2 Freezing Factory; Yundong Aquatic Products Processing Factory; Yundong Waterstuff Processing Plant; Zegao Daxin Foodstuff Freezing Plant; Mr. Zhang Wei; Zhenfeng Foodstuff Co. and Zhenfeng Group Food Co.

Also on September 29, 2000, in accordance with 19 CFR 351.213(b), the Department received a request for an administrative review of Nantong Delu Aquatic Food Co. Ltd. (Nantong Delu) from importer Ocean Harvest Wholesale Inc. (Ocean Harvest) and Nantong Delu; for an administrative review of Ningbo Nanlian from Hontex Enterprises, Inc. (d/b/a Louisiana Packing Company); and for an administrative review of Fujian Pelagic, Qingdao Zhengri, and Yancheng Yaou-exporters requesting review on their own behalf.

On October 30, 2000, the Department initiated an antidumping duty administrative review for this case. See Notice of Initiation of Antidumping and Countervailing Duty Administrative Reviews, Requests for Revocation in Part and Deferral of Administrative Review, 65 FR 64662 (October 30, 2000).

On June 1, 2001, the Department determined that it was not practicable to complete the preliminary results of this review within the statutory time limit. Consequently, in accordance with section 751(a)(3)(A) of the Act and section 351.213(h)(2) of the Department's regulations, the Department extended the deadline for completion of the preliminary results of the administrative review 120 days, to October 1, 2001. See Notice of Extension of Time Limits for Preliminary Results of Administrative Antidumping Review: Freshwater Crawfish Tail Meat from the People's Republic of China, 66 FR 31204 (June 11, 2001).

Preliminary Rescission of Administrative Review in Part

On November 13, 2000, in accordance with 19 CFR 351.213(d)(1), the petitioner withdrew its request for administrative review of Anhui Chaohu Daxin Meat Poultry Co, Ltd.; Anhui Provincial Aquatic Co.; Baoluu Waterstuff Co., Ltd.; Baoying Freezing Plant; Baoying County Freezing Plant; Beijing Farenco; Ever Concord; Feidong Freezing Plant; Fubao Aquatic Foodstuff Co., Ltd.; Fujian Hualong Aquatic Trade Development Co. Lianjian Seafood Processing Plant; Fujian Pelagic Fishery Group Co.; Fujian Hualong Aquatic Trade Development; Funing County Frozen Food; Guangzhou Xinye Plastic Products; Hengji Trading Co., Ltd.; Hexing Foodstuff Co., Ltd.; Hongze County Laoshan Danxian Freezing Factory; Hongze Lake Green Food Co., Ltd.; Hongze County Aquatic Freezing Factory; Hua Yin; Huai Yin; Huaiyin

County Freezing Factory; Huaiyin Foreign Economic Relations and Trade Committee; Huaiyin Foreign Trade Corp. Shunda Branch; Huaiyin Foreign Trade Corporation; Huaiyin Foreign Trading; Huaiyin Luky Trade Corp.; Huaiyin Shunda Economic and Technology Trading Co.; JAS Forwarding; Jiangsu Zhenfeng Group Foodstuff; Jiangsu Zhenfeng Group; Jiangsu Lukang Foodstuffs; Jin Hu Foreign Trading; Jinghu Aquatic Foodstuff Processing Plant; Jinpeng Agriculture and By-Product Development Co.; Laoshan Brother Freezing Plant; Liaoning Limeng Exports & Imports; Neptune International; Panwin Logistics; Qidong Baoluu Aquatic Food Co., Ltd.; Qingdao Shun Hang Forwarding; Qingshan

Foodstuff Co., Ltd.; Rich Shipping; Seatrade International, aka Seatrade Enter.; Shanghai Guangxum Trading; Toyo Warehouse, aka TKK Toyo; Weishan Jinmuan Foodstuff; Y & Z International, aka Y & Z International Trading; Yancheng Baolong Biochemical Products, Co., Ltd.; Yancheng Haibao Foods; Mr. Yang Yi Xiang; Yangzhou Foreign Trading; Yiaxian No. 2 Freezing Factory; Yundong Aquatic Products Processing Factory; Yundong Waterstuff Processing Plant; Zegao Daxin Foodstuff Freezing Plant; Zegao Foodstuff Freezing Plant; Zhenfeng Foodstuff Co.; and Zhenfeng Group Food Co.

On January 22, 2001, in accordance with 19 CFR 351.213(d)(1), Ocean Harvest and Nantong Delu withdrew their requests for administrative review.

On January 29, 2001, in accordance with 19 CFR 351.213(d)(1), the petitioner withdrew its request for administrative review of Anhui Cereals, Oils & Foodstuffs; Fujian Hualong Aquatic Trade Development Co.

Lianjian Seafood Processing Plant; Fujian Hualong Aquatic Trade Development; Funing County Frozen Food; Guangzhou Xinye Plastic Products, Huaiyin Foreign Trade Corporation (1); Huaiyin Foreign Trade Corporation (3); Mr. Edward Lee; Lianyungang Haiwang Aquatic Products Co., Ltd.; Mr. Lin Zhong Nan; Mr. Ma Guo Zhong; Pacific Coast Fisheries Corp.; Shanghai Zhongjian International Trading; Suyang Shuangyu Foodstuff Co., Ltd.; Mr. Wei Wei, aka Philip Wei; Mr. Wei Zhang, aka Zhang Wei; Weishan Hongfa Lake Foodstuff Co., Ltd., aka Weishan Fongfa Lake Foodstuff; Yancheng Fubao Aquatic Food Co., Ltd.; Yancheng Yao Seafoods; and Mr. Yang Yi Xiang.

The aforementioned withdrawals of requests for administrative review were all timely, in accordance with 19 CFR 351.213(d)(1). Furthermore, no other parties requested review of those companies. Consequently, we are preliminarily rescinding the administrative reviews of each company for which a request for administrative review was withdrawn.

An analysis of the responses submitted by Yancheng Foreign Trading (YFT) on June 12, 2001 and on August 21, 2001 indicates that all sales reported for the current period of review (POR) are identical to sales reported by YFT and reviewed by the Department in the previous POR (September 1, 1998 through August 31, 1999). See YFT's section C response of March 23, 2000, Exhibit C-1, and the supplemental response of July 7, 2000, Exhibit S-4, placed on the record of this review. A comparison of the data fields for the sales reported in this administrative review with certain sales documentation submitted in the responses cited above indicate that the sales are identical. The sales documentation submitted for the current review ties directly into the sales listing reported in the previous review. Therefore, evidence on the record demonstrates that the sales YFT reported for the current POR were already reported and reviewed by the Department during the previous POR. Furthermore, in its supplemental response of August 21, 2001, YFT confirms that the only sales covered by this POR are the ones it reported. Since the only sales YFT reported for the current POR were already reported and reviewed during the previous POR, we preliminarily conclude that no sales were made during the current POR. See Memorandum to Barbara E. Tillman through Maureen Flannery from Elfi Blum: Freshwater Crawfish Tail Meat from the People's Republic of China (PRC); Yancheng Foreign Trade, Ltd. (YFT), formerly Yancheng Foreign Trade Corporation (YFTC): Intent to Rescind Administrative Review.

The Department's regulations at 19 CFR 351.213(d)(3) provide that the Department may rescind a review with respect to a company if that company made no exports of subject merchandise during the POR. Therefore, in accordance with section 351.213(d)(3) of the Department's regulations, we are preliminarily rescinding our review of YFT.

Based on these preliminary rescissions, this administrative review now covers the following companies: Huaiyin 30, Ningbo Nanlian/Huaiyin 5, Qingdao Rirong, Fujian Pelagic, Yancheng Seafood/Qingdao Zhengri, Yangfeng Marine, Suquian FTC, Nantong Shengfa, Yancheng Haiteng, and Yangzhou Lakebest.

Scope of Review

The product covered by these reviews is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 0306.19.00.10 and 0306.29.00.00. The HTS subheadings are provided for convenience and Customs purposes only. The written description of the scope of this order is dispositive.

Relationship Between Qingdao Zhengri and Yancheng Seafood

We determine that Qingdao Zhengri and Yancheng Seafood should be treated as a single entity for purposes of this administrative review. Qingdao Zhengri and Yancheng Seafood's consolidated supplemental response states that Yancheng Seafood negotiates the price with U.S. customers on behalf of Qingdao Zhengri, and that Qingdao Zhengri receives payment for such sales. The sales for which Qingdao Zhengri produced the merchandise account for a significant portion of Qingdao Zhengri/Yancheng Seafood's reported U.S. sales. We also note that in their response to the Department's questionnaire, the total volume and value of sales for both Qingdao Zhengri and Yancheng Seafood were consolidated in Yancheng Seafood's section A response. Furthermore, the companies submitted a consolidated response to sections C and D of the Department's questionnaire, and to the Department's supplemental questionnaire for sections A, C, and D. For the reasons cited above, the Department is treating these two companies as a single entity for these preliminary results.

Relationship Between Ningbo Nanlian and Huaiyin 5

In the 1997/1998 administrative review, the Department determined that the export operations of Ningbo Nanlian and Huaiyin 5 were intertwined such that the two companies appeared to be under common control and should receive a single antidumping duty rate. See Freshwater Crawfish Tail Meat from the People's Republic of China: Final Results of Administrative Antidumping Duty and New Shipper Reviews, and Final Recission of New Shipper Review, 65 FR 20948 (April 19, 2000) (Crawfish 1997/1998 Final). Specifically, the Department found that the nature of the relationships between Huaiyin 5 and Ningbo Nanlian constituted a web of control relationships such that prices and exports were subject to significant manipulation. See Memorandum from Edward C. Yang to Joseph A. Spetrini:

Relationship of Ningbo Nanlian Frozen Foods Company, Ltd. and Huaiyin Foreign Trade Corporation (5), dated April 7, 2000; and Crawfish 1997/1998 Final and accompanying Issues and Decision Memorandum, at Comments 13-17, both of which have been placed on the record of this review. Ningbo Nanlian and Huaiyin 5 were given a single rate in the 1998/1999 administrative review as well, as the Department was not provided with new information or evidence of circumstances in the 1998/1999 review that differed sufficiently from circumstances in the 1997/1998 review to warrant any reconsideration of the relationship between Ningbo Nanlian and Huaiyin 5.

See Freshwater Crawfish Tail Meat from the People's Republic of China; Notice of Final Results of Antidumping Duty Administrative Review and New Shipper Reviews, and Final Partial Recission of Antidumping Duty Administrative Review, 66 FR 20643 (April 24, 2001) (Crawfish 1998/1999 Final). On May 22, 2001, Huaiyin 5 submitted a letter to the Department stating, in part, that Huaiyin 5 “is entitled to a separate rate.” However, again the Department has not been provided with new information or evidence of circumstances in the current review that differ sufficiently from circumstances in the prior reviews to warrant any reconsideration of the relationship between Ningbo Nanlian and Huaiyin 5.

Furthermore, as noted in the verification report concerning these entities, while conducting verification, the Department found evidence of a continuing commercial relationship between Ningbo Nanlian and Huaiyin 5, as well as evidence of a continuing business relationship between Mr. Wei Wei and both Huaiyin 5 and Ningbo Nanlian (by virtue of Mr. Wei's dealings with Louisiana Packing Company, which is the U.S. owner in the Ningbo Nanlian joint-venture). See the business proprietary version of the memorandum entitled Antidumping Review of Freshwater Crawfish Tail Meat (tail meat) from the People's Republic of China (PRC) (A-570-848):

Sales and Factors Verification Report for Ningbo Nanlian Frozen Foods Co., Ltd. and Huaiyin 5, September 28, 2001; see also the Memorandum from Edward C. Yang to Joseph A. Spetrini: Relationship of Ningbo Nanlian Frozen Foods Company, Ltd. and Huaiyin Foreign Trade Corporation (5), dated April 7, 2000. A public version of this memorandum is available in the Central Records Unit, Room B-099 of the Main Commerce Building. The report discusses Mr. Wei Wei's involvement with Ningbo Nanlian and Huaiyin 5, up to and including the 1997-1998 administrative review period, in detail. Accordingly, we continue to conclude that Ningbo Nanlian and Huaiyin 5 should receive a single antidumping duty rate for purposes of these preliminary results.

Application of Facts Available

Section 776(a)(2) of the Act provides that if any interested party: (A) Withholds information that has been requested by the Department; (B) fails to provide such information in a timely manner or in the form or manner requested; (C) significantly impedes an antidumping investigation; or (D) provides such information but the information cannot be verified, as provided in section 782(i) of the Act, the Department shall, subject to section 782(d) of the Act, use the facts otherwise available in reaching the applicable determination under this title.

Yangfeng Marine failed to respond to sections C and D of the Department's questionnaire. As a result, we were unable to obtain the information necessary to conduct a review. Therefore, in accordance with section 776(a)(2)(A) of the Act, we are applying facts available to Yangfeng Marine. See Silicon Metal from the People's Republic of China: Preliminary Results of Antidumping Duty Administrative Review, 63 FR 37850 (July 14, 1998); and Silicon Metal From the People's Republic of China; Final Results of Antidumping Duty Administrative Review, 63 FR 37850 (July 14, 1998). Because Yangfeng Marine failed to provide sections C and D questionnaire responses on the record, section 782(d) does not apply. Further, absent these sections, the Department cannot calculate export price or normal value, and thus any remaining information cannot form the basis for this determination under section 782(e). Therefore, in accordance with section 776(a)(2), we are applying facts available to Yangfeng Marine.

As noted above, we have determined that Qingdao Zhengri and Yancheng Seafood should be treated as a single entity. Since Qingdao Zhengri did not allow verification of its portion of the consolidated response, the Department considers the whole of the consolidated response to be unverifiable. See letter from Barbara E. Tillman to Yancheng Yaou Seafood Co., Ltd. a.k.a. Asia Europe and Qingdao Zhengri Seafood Co., Ltd., dated August 7, 2001. Therefore, in accordance with section 776(a)(2)(D) of the Act, we are applying facts available to Qingdao Zhengri/Yancheng Seafood.

Section 776(b) of the Act provides that the Department may apply adverse facts available to a respondent when that respondent fails to cooperate to the best of its ability. As noted above, in the instant administrative review, Yangfeng Marine and Qingdao Zhengri/Yancheng Seafood failed to provide complete and/or verifiable responses. With respect to Yangfeng Marine, this company failed to provide full section C and D questionnaire responses. These responses are necessary for the Department to calculate an accurate margin. Without section C and D information, the record is devoid of information concerning U.S. sales and factors of production. At no time did Yangfeng Marine indicate to the Department that it was having difficulties complying with the Department's requests for information, nor did it seek assistance from the Department. Therefore, we conclude that Yangfeng Marine has failed to cooperate in this review.

With respect to Qingdao Zhengri/Yancheng Seafood, after the Department received a letter from Qingdao Zhengri indicating that it would not submit to verification, the Department issued Qingdao Zhengri/Yancheng Seafood a letter indicating that it would not be possible for the Department to verify any part of the companies' consolidated response. The letter pointed out that if a company objects to verification, the Department will not conduct verification and may disregard any or all information submitted by the company in favor of the use of the facts available. Qingdao Zhengri/Yancheng Seafood never responded to the Department's letter, and made no subsequent efforts to contact or arrange verification with the Department. Therefore, we determine that these entities did not cooperate by acting to the best of their ability in complying with the Department's requests for information.

Based on these findings of lack of cooperation, we preliminarily determine that we should apply adverse facts available to Qingdao Zhengri/Yancheng Seafood and to Yangfeng Marine. Section 776(b) of the Act states that adverse facts available may include information derived from the petition, the final determination, a previous administrative review, or other information placed on the record. As adverse facts available, we are treating these parties as part of the PRC-wide entity, and using the rate for Huaiyin 30, 217.09 percent, the highest rate in this segment of the proceeding, which is also the highest rate from any segment of the proceeding. As we did not rely upon secondary information, no corroboration was required under section 776(c) of the Act.

Verification

As provided in section 782(i) of the Act, we conducted a verification of the responses of Qingdao Rirong, Ningbo Nanlian, and Huaiyin 5. We used standard verification procedures, including on-site inspection of the manufacturers' facilities and the examination of relevant sales and financial records. Our verification results are outlined in the public versions of the verification reports, on file in Room B-099 of the Main Commerce Building.

Separate Rates

Ningbo Nanlian, Huaiyin5, Huaiyin30, Qingdao Rirong, Fujian Pelagic, Yancheng Seafood/Qingdao Zhengri, Yangfeng Marine, Yancheng Haiteng, Yancheng FTC, Yangzhou Lakebest, Suqian FTC, and Nantong Shengfa have requested separate, company-specific rates. In their questionnaire responses, the above companies state that they are independent legal entities. Ningbo Nanlian, Qingdao Zhengri, Yangzhou Lakebest, Yancheng Haiteng, and Nantong Shengfa have furthermore reported they are PRC-foreign joint ventures. Pursuant to our findings in the “Application of Facts Available” section above, Yancheng Seafood/Qingdao Zhengri and Yangfeng Marine are not entitled to separate rates.

To establish whether a company operating in a non-market-economy (NME) country is sufficiently independent to be entitled to a separate rate, the Department analyzes each exporting entity under the test established in the Final Determination of Sales at Less Than Fair Value: Sparklers from the People's Republic of China, 56 FR 20588 (May 6, 1991) as amplified by the Final Determination of Sales at Less Than Fair Value: Silicon Carbide from the People's Republic of China, 59 FR 22585 (May 2, 1994). Under this policy, exporters in NMEs are entitled to separate, company-specific margins when they can demonstrate an absence of government control, both in law and in fact, with respect to export activities. Evidence supporting, though not requiring, a finding of de jure absence of government control over export activities includes:

(1) An absence of restrictive stipulations associated with an individual exporter's business and export licenses; (2) any legislative enactments decentralizing control of companies; and (3) any other formal measures by the government decentralizing control of companies. De facto absence of government control over exports is based on four factors: (1) Whether each exporter sets its own export prices independently of the government and without the approval of a government authority; (2) whether each exporter retains the proceeds from its sales and makes independent decisions regarding the disposition of profits or financing of losses; (3) whether each exporter has the authority to negotiate and sign contracts and other agreements; and (4) whether each exporter has autonomy from the government regarding the selection of management.

De Jure Control

With respect to the absence of de jure government control over the export activities of all the companies reviewed, evidence on the record indicates that Ningbo Nanlian/Huaiyin5, Huaiyin30, Qingdao Rirong, Fujian Pelagic, Yancheng Haiteng, Yangzhou Lakebest, Suqian FTC, and Nantong Shengfa are not controlled by the government. All of the above companies submitted evidence of their legal right to set prices independent of all government oversight. The business licenses of every company indicates that each is permitted to engage in the exportation of crawfish. We find no evidence of de jure government control restricting any of the reviewed companies from the exportation of crawfish.

In their responses, each of the above companies has stated that no export quotas apply to crawfish. Prior verifications have confirmed that there are no commodity specific export licenses required and no quotas for the seafood category “Other,” which includes crawfish, in China's Tariff and Non-Tariff Handbook for 1996. In addition, we have previously confirmed that crawfish is not on the list of commodities with planned quotas in the 1992 PRC Ministry of Foreign Trade and Economic Cooperation document entitled Temporary Provisions for Administration of Export Commodities. See Freshwater Crawfish Tail Meat From The People's Republic of China; Preliminary Results of New Shipper Review, 64 FR 8543 (February 22, 1999) and Freshwater Crawfish Tail Meat From the People's Republic of China; Final Results of New Shipper Review, 64 FR 27961 (May 24, 1999) (Ningbo New Shipper Review

The following laws, which have been placed on the record of this review, indicate a lack of de jure government control over companies owned by “all the people” and that control over these enterprises has been transferred from the government to the enterprises themselves. The Administrative Regulations of the People's Republic of China for Controlling the Registration of Enterprises as Legal Persons (Legal Persons Law), issued on July 13, 1988 by the State Administration for Industry and Commerce of the PRC provide that, to qualify as legal persons, companies must have the “ability to bear civil liability independently” and the right to control and manage their businesses. These regulations also state that as an independent legal entity, a company is responsible for its own profits and losses. See Notice of Final Determination of Sales at Less Than Fair Value: Manganese Metal from the People's Republic of China, 60 FR 56046 (November 6, 1995). Ningbo Nanlian/Huaiyin5, Huiayin30, Fujian Pelagic, and Yangzhou Lakebest cited the Legal Persons Law in their responses.

Ningbo Nanlian/Huaiyin5 and Fujian Pelagic also submitted the General Principles of the Civil Law of the People's Republic of China, which establishes guidelines regarding the conduct of companies as legal entities. Huaiyin5, Huiayin30, and Fujian Pelagic, as independent companies under the jurisdiction of local or provincial governments, submitted copies of the Regulations for Transformation of Operational Mechanism of State-Owned Industrial Enterprises and the Law of the People's Republic of China of Industrial Enterprises Owned by the Whole People, which state that such enterprises will have autonomy in management and carry full responsibility for profits and losses.

Ningbo Nanlian/Huaiyin5, Huaiyin30, Fujian Pelagic, Qingdao Rirong, Yancheng Haiteng, Yangzhou Lakebest, and Suqian FTC provided copies of the Foreign Trade Law of the PRC, which identifies the rights and responsibilities of business enterprises with foreign investment, grants autonomy to foreign trade operators in management decisions, and establishes the foreign trade operator's accountability for profits and losses. Yancheng Haiteng placed on the record of this review The Sino-Foreign Equity Joint Venture Law of the PRC, which grants legal autonomy and export rights to Sino-foreign equity joint venture companies without additional approval from a government entity. Yangzhou Lakebest and Nantong Shengfa also cited this law in their responses. At verification, we saw that business licenses for Ningbo Nanlian/Huaiyin5 and Qingdao Rirong were established in accordance with the applicable laws. Therefore, with respect to the absence of de jure control over export activity, we determine that all of the above firms are independent legal entities.

De Facto Control

With respect to the absence of de facto control over export activities, the information presented indicates that the management of Ningbo Nanlian/Huaiyin5, Yancheng Haiteng, Huaiyin30, Fujian Pelagic, Yangzhou Lakebest, Suqian FTC, Qingdao Rirong, and Nantong Shengfa are responsible for all decisions such as the determination of export prices, profit distribution, marketing strategy, and contract negotiations. Our analysis indicates that there is no government involvement in the daily operations or the selection of management for any of these companies. In addition, we have found that these respondents' pricing and export strategy decisions are not subject to any outside entity's review or approval, and that there are no governmental policy directives that affect these decisions.

There are no restrictions on the use of respondents' revenues or profits, including export earnings. Each company's general manager has the right to negotiate and enter into contracts, and may delegate this authority to employees within the company. There is no evidence that this authority is subject to any level of governmental approval. Each company has stated that its management is selected by its board of directors and/or its employees and that there is no government involvement in the selection process. Lastly, decisions made by respondents concerning purchases of subject merchandise from other suppliers are not subject to government approval. Consequently, because evidence on the record, as supported by verification, indicates an absence of government control, both in law and in fact, over their export activities, we preliminarily determine that these exporters are entitled to separate rates.

Huaiyin 5 Name Change

While on verification, the team discovered that, effective January 10, 2001, Huaiyin 5's official name changed to Jiangsu Hilong International Trading Company, Ltd. However, throughout this notice, this company is referred to as Huaiyin 5—the name of this entity during the POR, and under which questionnaire responses were submitted.

Normal Value Comparisons

To determine whether respondents' sales of the subject merchandise to the United States were made at prices below NV, we compared their United States prices to NV, as described in the “United States Price” and “Normal Value” sections of this notice.

United States Price

For Ningbo Nanlian/Huaiyin 5 and Yancheng Haiteng, we based United States price on CEP in accordance with section 772(b) of the Act, because the first sales to unaffiliated purchasers were made after importation. We calculated CEP based on packed prices from the U.S. affiliate's warehouse to the first unaffiliated purchaser in the United States. We made the following deductions from the starting price (gross unit price), where applicable: Foreign inland freight, international (ocean) freight, U.S. customs duty, brokerage and handling expenses, the affiliated reseller's U.S. credit expenses, and the affiliated reseller's selling expenses. See sections 772(c) and (d) of the Act. Because U.S. customs duty, brokerage and handling expenses, credit expenses, and selling expenses are market-economy costs incurred in U.S. dollars, we used actual costs rather than surrogate values for these deductions to gross unit price.

For Fujian Pelagic, Huaiyin30, Qingdao Rirong, Suqian FTC, Yangzhou Lakebest, and Nantong Shengfa, we based United States price on EP in accordance with section 772(a) of the Act, because the first sales to unaffiliated purchasers were made prior to importation, and CEP was not otherwise warranted by the facts on the record. We calculated EP based on packed prices from the exporter to the first unaffiliated purchaser in the United States. Where applicable, we deducted foreign inland freight, inland insurance, and brokerage and handling expenses in the home market from the starting price (gross unit price) in accordance with section 772(c) of the Act.

The Department has preliminarily determined that Fujian Pelagic's sales to Pacific Coast Fishery Corporation (Pacific Coast) should be treated as EP sales because the first sales were made to unaffiliated purchasers prior to importation in accordance with 772(a) of the Act, and CEP was not otherwise warranted by the facts on the record. See Memorandum from Matthew Renkey through Maureen Flannery to Barbara E. Tillman, Analysis of the Relationship between Fujian Pelagic Fishery Group Co. and Pacific Coast Fisheries, dated October 1, 2001. A public version of this memorandum is available in the Central Records Unit, Room B-099 of the Main Commerce Building.

Normal Value

For companies located in NME countries, section 773(c)(1) of the Act provides that the Department shall determine NV using a factors-of-production methodology if (1) the merchandise is exported from an NME country, and (2) available information does not permit the calculation of NV using home-market prices, third-country prices, or constructed value under section 773(a) of the Act.

In every case conducted by the Department involving the PRC, the PRC has been treated as an NME country. Pursuant to section 771(18)(C)(i) of the Act, any determination that a foreign country is an NME country shall remain in effect until revoked by the administering authority. None of the companies contested such treatment in these reviews. Accordingly, we have applied surrogate values to the factors of production to determine NV. See Administrative Review of Freshwater Crawfish Tail Meat from the People's Republic of China: Factor Values Memorandum, October 1, 2001 (Factor Values Memorandum). We calculated NV based on factors of production in accordance with section 773(c)(4) of the Act and section 351.408(c) of our regulations. Consistent with the original investigation and prior administrative reviews of this order, we determined that India (1) is comparable to the PRC in level of economic development, and (2) is a significant producer of comparable merchandise. With the exceptions of the crawfish input and by-product, we valued the factors of production using publicly available information from India. We adjusted the Indian import prices by adding freight expenses to make them delivered prices.

In the original LTFV investigation and in previous reviews of this order, for the raw crawfish input, we used Spanish import statistics for live freshwater crawfish imported from Portugal. See Notice of Final Determination of Sales at Less Than Fair Value: Freshwater Crawfish Tail Meat from the People's Republic of China, 62 FR 41347 (August 1, 1997), and Crawfish 1997/1998 Final. However, Spanish imports of live freshwater crawfish from Portugal have declined drastically. From April 1999 through March 2000, the production period corresponding in part to the current review period, Spanish imports from Portugal were only 17 metric tons, in contrast to the 357 metric tons used during the investigation, and 160 metric tons used during the 1997-98 administrative review. This represents a decline of 95.2 percent since the period of the LTFV investigation. In addition, unlike in other years, Spanish imports from Portugal were heavily weighted towards one month. This one month accounted for 71 percent of the total volume of imports from Portugal for that year. Small import volumes as a whole, and one month accounting for the vast proportion of imports, indicate that live freshwater crawfish is no longer a product that is regularly traded between Portugal and Spain. Therefore, we searched for data reflecting a more substantial volume of trade. For these preliminary results, we have used Australian farm gate prices for whole, live freshwater crawfish. See Factor Values Memorandum. For a complete discussion of our choice of Australian farm gate prices, refer to Freshwater Crawfish Tail Meat from the People's Republic of China; Notice of Final Results of Antidumping Duty New Shipper Reviews, 66 FR 45002 (August 27, 2001), and the accompanying memorandum (September 1999—March 2000 Decision Memo) at Comment 1. This memorandum is on file in the Central Records Unit (Room B-099 of the Main Commerce Building).

We valued the factors of production as follows:

To value whole crawfish, we used the Australian farm gate price for freshwater crawfish as reported in Freshwater Crawfish Tail Meat (crawfish) from the People's Republic of China (PRC): Meetings Regarding the Crawfish Industry in Western Australia, July 31, 2001. For further details, refer to the September 1999-March 2000 Decision Memo, at Comment 1.

To value the by-product of shells, we used a September 1999 free-on-board (FOB) factory price quote for crab and shrimp shells from a Canadian seller of crustacean shells and incorporated a 30 percent wet/dry conversion factor, where shells were sold wet. For further details, see Factors Value Memorandum.

To value coal and electricity, we used data reported as the average Indian domestic prices within the categories of “Steam Coal for Industry” and “Electricity for Industry,” published in the International Energy Agency's publication, Energy Prices and Taxes, First Quarter, 2000. We adjusted the cost of coal to include an amount for transportation. For water, we relied upon public information from the October 1997 Second Water Utilities Data Book: Asian and Pacific Region, published by the Asian Development Bank.

To achieve comparability of energy and water prices to the factors reported for the crawfish processing periods applicable to the companies under review, we adjusted these factor values to reflect inflation to the applicable crawfish processing season during the POR using the Wholesale Price Index (WPI) for India, as published in the 2001 International Financial Statistics (IFS) by the International Monetary Fund (IMF).

To value packing materials (plastic bags, cardboard boxes and adhesive tape), we relied upon Indian import data from the April 1999 through September 1999 issues of Monthly Statistics of the Foreign Trade of India (Monthly Statistics). We adjusted these prices to reflect inflation to the crawfish processing season during the POR. We adjusted the values of packing materials to include freight costs incurred between the supplier and the factory. For transportation distances used in the calculation of freight expenses on packing materials, we added, to surrogate values from India, a surrogate freight cost using the shorter of (a) the distances between the closest PRC port and the factory, or (b) the distance between the domestic supplier and the factory. See Notice of Final Determination of Sales at Less Than Fair Value: Collated Roofing Nails From the People's Republic of China, 62 FR 51410 (October 1, 1997) (Roofing Nails).

To value factory overhead, selling, general, and administrative expenses (SG&A) and profit, we calculated simple average rates using publicly available financial statements of four Indian seafood processing companies, and applied these rates to the calculated cost of manufacture. See Factor Values Memorandum.

For labor, we used the PRC regression-based wage rate at Import Administration's home page, Import Library, Expected Wages of Selected NME Countries, revised in September 2001. See http://ia.ita.doc.gov/wages/. Because of the variability of wage rates in countries with similar per capita gross domestic products, section 351.408(c)(3) of the Department's regulations requires the use of a regression-based wage rate. The source of these wage rate data on the Import Administration's Web site is the 2000 Year Book of Labour Statistics, International Labour Office (Geneva: 1998), Chapter 5: Wages in Manufacturing.

We valued movement expenses as follows:

To value truck freight expenses we used seventeen price quotes from six different Indian trucking companies which were used in the Final Determination of Sales at Less Than Fair Value: Bulk Aspirin From the People's Republic of China, 65 FR 33805 (May 25, 2000). For transportation of the subject merchandise, we adjusted the rates to reflect inflation to the month of sale of the finished product using the WPI for India from the IFS. For transportation of production inputs, we adjusted the rate to reflect inflation to the period of production.

To value brokerage and handling in the home market, we used public information reported in the antidumping administrative review of Certain Stainless Steel Wire Rod From India; Preliminary Results of Antidumping Duty Administrative and New Shipper Reviews, 63 FR 48184 (September 9, 1998) (Stainless Steel Wire Rod from India), and also used in the Crawfish 1998/1999 Final. We adjusted the rates to reflect inflation to the month of sale using the WPI for India from the IFS.

We used the average of the foreign brokerage and handling expenses reported in the U.S. sales listing of the public questionnaire response submitted in the antidumping review of Viraj Group, Ltd. in Stainless Steel Wire Rod from India. Charges were reported on a per metric ton basis. We adjusted these values to reflect inflation to the month of sale using the WPI for India from the IFS. For further discussion, see Factor Values Memorandum.

Currency Conversion

We made currency conversions pursuant to section 351.415 of the Department's regulations at the rates certified by the Federal Reserve Bank. (See ia.ita.doc.gov/exchange/index.html.)

Preliminary Results of Review

We preliminarily determine that the following dumping margins exist:

Manufacturer/exporter | Time period | Margin (percent)
Ningbo Nanlian/Huaiyin5 (a.k.a. Jiangsu Hilong International Trading Company, Ltd.) | 9/1/99-8/31/00 | 62.18
Yancheng Haiteng | 9/1/99-8/31/00 | 102.82
Huaiyin30 | 9/1/99-8/31/00 | 217.09
Fujian Pelagic | 9/1/99-8/31/00 | 173.60
Yangzhou Lakebest | 9/1/99-8/31/00 | 28.88
Suqian FTC | 9/1/99-8/31/00 | 26.75
Qingdao Rirong | 9/1/99-8/31/00 | 9.40
Nantong Shengfa | 9/1/99-8/31/00 | 45.64
PRC-Wide Rate | 9/1/99-8/31/00 | 217.09

Parties to the proceeding may request disclosure within 5 days of the date of publication of this notice in accordance with 19 CFR 351.224(b). Any interested party may request a hearing within 30 days of publication in accordance with 19 CFR 351.310(c). Interested parties may submit case briefs within 30 days of the date of publication of this notice in accordance with 19 CFR 351.309(c)(ii). Rebuttal briefs, which must be limited to issues raised in the case briefs, may be filed not later than 5 days after the due date for submission of case briefs. Parties who submit arguments are requested to submit with each argument (1) a statement of the issue and (2) a brief summary of the argument. Individuals who wish to request a hearing must submit a written request within 30 days of the publication of this notice in the Federal Register to the Assistant Secretary for Import Administration, U.S. Department of Commerce, Room 1870, 14th Street and Constitution Avenue, NW., Washington, DC 20230. Requests for a public hearing should contain: (1) The party's name, address, and telephone number; (2) the number of participants; (3) the reason for attending; and (4) a list of the issues to be discussed. Any hearing would normally be held two days after the deadline for rebuttal briefs, or the first workday thereafter, at the U.S. Department of Commerce, 14th Street and Constitution Avenue NW., Washington, DC 20230. If a hearing is held, an interested party may make an affirmative presentation only on arguments included in that party's case brief and may make a rebuttal presentation only on arguments included in that party's rebuttal brief. Parties should confirm by telephone the time, date, and place of the hearing 48 hours before the scheduled time.

The Department intends to issue the final results of this administrative review, which will include the results of its analysis of issues raised in the briefs, within 120 days from the date of publication of these preliminary results.

Upon completion of this administrative review, the Department shall determine, and the U.S. Customs Service shall assess, antidumping duties on all appropriate entries. The Department will issue appraisement instructions directly to the U.S. Customs Service upon completion of this review. For assessment purposes, we calculated importer-specific assessment rates for freshwater crawfish tail meat from the PRC. We divided the total dumping margins (calculated as the difference between NV and EP) for each importer by the total quantity of subject merchandise sold to that importer during the POR. Upon the completion of this review, we will direct Customs to assess the resulting quantity-based rates against the weight in kilograms of each entry of the subject merchandise by the importer during the POR. (See Memorandum to Barbara E. Tillman through Maureen Flannery, from Mark Hoadley: Collection of Cash Deposits and Assessment of Duties on Freshwater Crawfish from the PRC, dated August 27, 2001). A public version of this memorandum is available in th Central Records Unit, Room B-099 of the Main Commerce Building.

The following deposit rates will be effective upon publication of the final results of this administrative review for all shipments of freshwater crawfish tail meat from the PRC entered, or withdrawn from warehouse, for consumption on or after the publication date, as provided for by section 751(a)(2)(C) of the Act: (1) For exporters with separate rates listed above, we will establish a per kilogram cash deposit rate which will be equivalent to the company-specific cash deposit established in this review (see Memorandum to Barbara E. Tillman through Maureen Flannery, from Mark Hoadley: Collection of Cash Deposits and Assessment of Duties on Freshwater Crawfish from the PRC, dated August 27, 2001); (2) for previously reviewed PRC and non-PRC exporters with separate rates, the cash deposit rate will be the company-specific rate established for the most recent period; (3) for all other PRC exporters, the rate will be the current PRC-wide rate, 217.09 percent; and (4) for all other non-PRC exporters of subject merchandise from the PRC, the cash deposit rate will be the rate applicable to the PRC supplier of that exporter.This notice also serves as a preliminary reminder to importers of their responsibility under 19 CFR 351.402(f) of the Department's regulations to file a certificate regarding the reimbursement of antidumping duties prior to liquidation of the relevant entries during this review period. Failure to comply with this requirement could result in the Secretary's presumption that reimbursement of antidumping duties occurred and the subsequent assessment of double antidumping duties.

This administrative review and notice are published in accordance with section 751(a)(1) of the Act, and sections 351.213 and 351.221 of the Department's regulations.

Dated: October 1, 2001.
Joseph A. Spetrini,
Acting Assistant Secretary for Import Administration.

[FR Doc. 01-25709 Filed 10-11-01; 8:45 am]

BILLING CODE 3510-DS-P